DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Northwest Region Pacific Whiting Shoreside Fishery Monitoring and Catch Accounting Program.

OMB Control Number: 0648-0563.

Form Number(s): NA .

Type of Request: Regular submission (extension of a currently approved information collection).

Number of Respondents: 53.

Average Hours Per Response: Initial application and summary report, 10 hours each; inseason data report, 1 hour; electronic fish tickets, 10 minutes in Washington and California, 2 minutes in Oregon; electronic monitoring systems (EMS): installation, 6 hours; data downloads, 4 hours and EMS removal, 2 hours.

Burden Hours: 600.

Needs and Uses: This is an extension of a currently approved information collection.

As part of its fishery management responsibilities, NOAA's National Marine Fisheries Service collects information to determine the amount and type of groundfish caught by fishing vessels. This collection supports exempted fishing permit requirements for Pacific whiting shoreside vessels to have and use electronic monitoring to verify full retention of catch and for Pacific whiting shoreside processors to send electronic catch data used to manage the catch allocations and limits. The respondents are principally groundfish fishermen and shoreside processors which are companies/partnerships. Other respondents include state fisheries agencies who seek an exempted fishing permit.

Affected Public: Business or other for-profit organizations.

Frequency: Daily, weekly and on occasion.

Respondent's Obligation: Mandatory.

OMB Desk Officer: David Rostker, (202) 395-3897.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: August 4, 2010.
Gwellnar Banks,
Management Analyst, Office of the Chief Information Officer.

[FR Doc. 2010-19529 Filed 8-6-10; 8:45 am]

BILLING CODE 3510-22-P